DEPARTMENT OF THE INTERIOR

Fish and Wildlife Service

[FWS-R1-R-2009-N109; 1265-0000-10137-S3]

Malheur National Wildlife Refuge, Harney County, OR

AGENCY: Fish and Wildlife Service, Interior.

ACTION: Notice of intent to prepare a comprehensive conservation plan and environmental impact statement; request for comments.

SUMMARY: We, the U.S. Fish and Wildlife Service (Service), intend to prepare a comprehensive conservation plan (CCP) for Malheur National Wildlife Refuge (refuge). We will also prepare an environmental impact statement (EIS) to evaluate the potential effects of various CCP alternatives. We provide this notice in compliance with our CCP policy to advise the public, other Federal and State agencies, and Tribes of our intentions, and to obtain suggestions and information on the scope of issues to consider during the planning process.

DATES: To ensure consideration, we must receive your written comments by October 15, 2009. We will hold public meetings and will announce meeting details on the refuge's Web site (see ADDRESSES).

ADDRESSES: Additional information about the CCP planning process is available on the Internet at: http://www.fws.gov/malheur. Send your comments or requests for information by any of the following methods.

E-mail: FW1PlanningComments@fws.gov. Include “Malheur CCP” in the subject line of the message.

Fax: Attn: Tim Bodeen, (541) 493-2405.

U.S. Mail: Tim Bodeen, Project Leader, Malheur National Wildlife Refuge, 36391 Sodhouse Lane, Princeton, OR 97221.

FOR FURTHER INFORMATION CONTACT: Tim Bodeen, Project Leader, Malheur National Wildlife Refuge, phone (541) 493-2612.

SUPPLEMENTARY INFORMATION:

Background

The CCP Process

The National Wildlife Refuge System Administration Act of 1966, as amended by the National Wildlife Refuge System Improvement Act of 1997 (16 U.S.C. 668dd-668ee) (Administration Act), requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Each unit of the National Wildlife Refuge System was established for specific purposes. We use these purposes as the foundation for developing and prioritizing the management goals and objectives for each refuge within the National Wildlife Refuge System mission, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP planning process provides participation opportunities for Tribal, State, and local governments; agencies; organizations; and the public. At this time we encourage input in the form of issues, concerns, ideas, and suggestions for the future management of Malheur Refuge. The Service will manage the refuge's CCP process to maximize opportunities for public involvement and dialogue to help inform our decision-making. The Service will contract with the Oregon Consensus Program (OCP), a State-funded agency that assists public agencies and others in convening collaborative processes. The OCP will work with interested organizations, including the High Desert Partnership, a neutral, non-profit, and non-partisan organization that addresses challenges in Harney County, Oregon, to engage government agencies, non-profit groups, and interested individuals throughout the planning process to provide expertise, information, and feedback to the Service. Our intent is to develop a CCP that is consistent with refuge system law and policy and supported by the diverse parties with interests in the refuge.

We will conduct the environmental review of this project and develop an EIS in accordance with the requirements of the National Environmental Policy Act of 1969, as amended (NEPA) (42 U.S.C. 4321 et seq.); NEPA regulations (40 CFR parts 1500-1508); other appropriate Federal laws and regulations; and our policies and procedures for compliance with those laws and regulations.

Malheur National Wildlife Refuge

Malheur National Wildlife Refuge was established on August 18, 1908, by President Theodore Roosevelt as the Lake Malheur Bird Reservation. The refuge was originally set aside to prevent plume hunters from decimating colonial nesting bird populations. It protected unclaimed lands encompassed by Malheur, Mud, and Harney Lakes “as a preserve and breeding ground for native birds.” The refuge was expanded to include the Blitzen Valley in 1935 and the Double-0 Unit in 1941.

The refuge consists of over 187,000 acres of open water (marsh, river, and stream), wetlands, springs, riparian areas, irrigated meadows and grain fields, and uplands. The uplands are dominated by big sagebrush, rabbitbrush, and greasewood interspersed with grasses, including basin wild rye and desert saltgrass.

Practices to manage and improve habitat on the refuge include vegetation manipulation through haying, burning, flooding, irrigation, farming, and grazing; and water management through flooding and drainage. Wetland and meadow habitat management is accomplished by pooling water behind a series of dams; the water is then diverted via canals into numerous meadows and wetlands. In the Blitzen River Unit, some of the water returns to the Blitzen River by surface sheet flow, return flow pipes or ditches, or subsurface seepage.

Malheur Lake is one of the largest freshwater marshes in the country. The floor of the lake is only 8 feet below the surface at its deepest point. Together with the adjacent water bodies of Harney and Mud Lakes, Malheur Lake is the endpoint of an inland basin fed by waters from the Blitzen River, Silvies River, and Silver Creek. With its abundance of water in an otherwise arid landscape, the refuge attracts a significant portion of the Pacific Flyway's bird population during spring migration. The Audubon Society designated the refuge an Important Bird Area. Breeding season highlights include:

• Up to 20 percent of the world's population of White-faced Ibis;

• The highest known densities of Willow Flycatcher;

• One of the highest Breeding Bird Survey counts for the Brewer's Sparrow;

• Breeding populations of Western Snowy Plover (400 individuals), Long-billed Curlew, Franklin's Gull, Short-eared Owl, Greater Sage-Grouse, Bobolink, and Trumpeter Swan;

• Significant populations of American White Pelican, Cinnamon Teal, Redhead, and Greater Sandhill Crane (the latter being 20 percent of Oregon's breeding population);

• Up to 1,300 pairs of nesting Franklin's Gulls;

• Breeding Forster's Terns, up to 350 pairs of nesting Caspian Terns, and up to 6,000 nesting Black Terns;

• 100-600 pairs of nesting Great Blue Herons and similar numbers of Great Egrets, and more than 200 pairs of nesting Snowy Egrets; and

• Post-breeding concentrations of Ring-billed Gulls sometimes reaching 25,000 in August.

Migrant bird species highlights include:

• Passage of up to half of the world's population of Ross' geese;

• A significant proportion of the total populations of green-winged teal, American wigeon, northern shoveler, northern pintail, canvasback, and ruddy duck;

• Hundreds of thousands of waterfowl (including up to 100,000 snow geese; 15,000 green-winged teal; 15,000 mallards; 250,000 northern pintail; 250,000 northern shovelers; 4,000 canvasbacks; 2,000 ring-necked ducks; 5,000 lesser scaup; and 50,000 ruddy ducks); and

• Concentrations of up to 25,000 western sandpipers; 350 pectoral sandpipers; 35,000 long-billed dowitchers; 15,000 Wilson's phalaropes; 15,000 American avocets; and 200 black-necked stilts.

The refuge provides hunting, fishing, wildlife viewing and photography, interpretation, and limited environmental education. Because there are a limited number of trails, most viewing and interpretation occurs from the refuge's auto tour route. An unsigned portion of the National Desert Scenic Trail crosses the refuge. Waterfowl hunting is available on approximately half of Malheur Lake. Upland bird hunting is available on approximately one quarter of the refuge's acreage. Fishing is allowed on Krumbo Reservoir, the Blitzen River, Bridge Creek, and the East Canal.

Preliminary Issues, Concerns, and Opportunities

We identified the following preliminary wildlife and habitat issues for consideration during the planning process: Decreased populations of colonial nesting birds and waterfowl compared to historic levels; carp infestation in the lakes, wetlands, and rivers adversely affecting habitat for colonial nesting waterbirds, waterfowl, native fish, and invertebrates; degraded water quality and quantity in the Blitzen River; degraded stream and riparian condition of the Blitzen River and tributaries; the presence and spread of aggressive noxious weeds such as perennial pepperweed and reed canary grass; achieving desired plant composition and structure in meadow habitats for target wildlife species; maintaining redband trout and other native fishes; and the potential effect of climate change on refuge habitats and species.

We identified the following preliminary public use issues for consideration during the planning process: Adequacy of access and facilities for all of the wildlife-dependent uses; opportunities to expand programs; impacts of public use programs on natural and cultural resources and refuge visitors; management of commercial outfitters or guides; and management of non-wildlife dependent uses.

In addition to wildlife, habitat, and public use issues, we will conduct a new wilderness review as part of this CCP/EIS. In 1973 we made a recommendation to designate 30,000 acres around Harney Lake as wilderness. In the new review we will identify whether some or all of the areas proposed in 1973 still meet wilderness recommendation criteria, and if there are other refuge areas could meet the criteria.

Proper conservation, management, and interpretation of the refuge's cultural resources, including archaeological sites and historic buildings, constitute an additional management issue. Additional issues may be identified during public scoping.

Public Availability of Comments

Before including your address, phone number, e-mail address, or other personal identifying information in your comment, you should be aware that your entire comment—including your personal identifying information—may be made publicly available at any time. While you can ask us to withhold it from public review, we cannot guarantee we will be able to do so.

Dated: May 22, 2009.
David J. Wesley,
Acting Regional Director, Region 1, Portland, Oregon.

[FR Doc. E9-15271 Filed 6-26-09; 8:45 am]

BILLING CODE 4310-55-P